SMALL BUSINESS ADMINISTRATION

Mandatory Declassification Review Requests

AGENCY: U.S. Small Business Administration.

ACTION: Notice.

SUMMARY: This notice identifies the office in the U.S. Small Business Administration to which mandatory declassification review requests shall be addressed in accordance with applicable laws. This notice benefits the public in advising them where to send such requests for declassification review.

ADDRESSES: Requests must be addressed to: Director, Office of Security Operations, Office of Inspector General, U.S. Small Business Administration, 409 3rd Street, SW., Washington, DC 20416.

FOR FURTHER INFORMATION CONTACT: Linda M. Roberts, Director, Office of Security Operations, Office of Inspector General, at (202) 205-6223.

SUPPLEMENTARY INFORMATION: Pursuant to Classified National Security Information Directive No. 1 (32 CFR, Parts 2001 and 2004), issued by the Information Security Oversight Office, the U.S. Small Business Administration is required to advise the public of the address that Mandatory Declassification Review requests pertaining to the U.S. Small Business Administration may be sent. This notice fulfills that requirement.

Authority: 32 CFR 2001.33.

Dated: December 8, 2005.
Peter McClintock,
Deputy Inspector General.

[FR Doc. E5-7346 Filed 12-14-05; 8:45 am]

BILLING CODE 8025-01-P